DEPARTMENT OF TRANSPORTATION

National Highway Traffic Safety Administration

[Docket No. NHTSA-2021-0036]

Denial of Motor Vehicle Defect Petition, DP21-001

AGENCY: National Highway Traffic Safety Administration, (NHTSA), Department of Transportation.

ACTION: Denial of a petition for a defect investigation.

SUMMARY: This notice sets forth the reasons for the denial of a petition, DP21-001, submitted by Mr. Derek Colvin to NHTSA (the “agency”) by a letter dated November 20, 2020. The petition requests that the agency initiate a safety defect investigation into an alleged defect in the reversing light system experienced in certain Model Year (MY) 2013 Porsche 911 Carrera manual transmission vehicles (the “subject vehicles”). As the driver shifts the gear into reverse, the reversing light fails to illuminate. After conducting a technical review of: (1) The consumer complaint submitted by the petitioner; (2) consumer complaint information in NHTSA's database; and (3) information provided by Porsche in response to our Information Request letter regarding reversing light failure to illuminate and complaints received by Porsche, NHTSA's Office of Defect Investigations (ODI) has concluded that no further investigation of the issue raised by the petition is warranted and the agency, accordingly, has denied the petition.

FOR FURTHER INFORMATION CONTACT: Mr. Lemeola Kamanya, Vehicle Defect Division A, Office of Defects Investigation, NHTSA 1200 New Jersey Avenue SE, Washington, DC 20590. Telephone: 202-366-6065. Email: lemeola.kamanya@dot.gov.

SUPPLEMENTARY INFORMATION:

1. Introduction

Interested persons may petition NHTSA requesting that the agency initiate an investigation to determine whether a motor vehicle or item of replacement equipment does not comply with an applicable motor vehicle motor vehicle safety standard or contains a defect that relates to motor vehicle safety. 49 U.S.C. 30162(a)(2); 49 CFR 552.1. Upon receipt of a properly filed petition, the agency conducts a technical review of the petition, material submitted with the petition and any additional information. 49 U.S.C. 30162(a)(2); 49 CFR 552.6. The technical review may consist solely of a review of information already in the possession of the agency or it may include the collection of information from the motor vehicle manufacturer and/or other sources. After conducting the technical review and considering appropriate factors, which may include, but are not limited to, the nature of the complaint, allocation of agency resources, agency priorities, the likelihood of uncovering sufficient evidence to establish the existence of a defect and the likelihood of success in any necessary enforcement litigation, the agency will grant or deny the petition. See 49 U.S.C. 30162(a)(2); 49 CFR 552.8.

2. Defect Petition Background Information

In a letter dated November 20, 2020, Mr. Derek Colvin (the petitioner) requested that NHTSA initiate a safety defect investigation into reversing light failure experienced by operators of model year (MY) 2013 Porsche 911 Carrera manual transmission vehicles as the driver engages the reverse gear. Mr. Colvin based his request on his own experience. NHTSA has based its decision on a review of the material cited by the petitioner, information submitted by Porsche in response to our Information Request letter and other pertinent information in NHTSA's databases.

3. Summary of the Petition

The petitioner reported that his MY 2013 Porsche 911 Carrera vehicle equipped with the ZF-sourced seven-speed manual transmission experienced failure of the reverse lights to illuminate when shifting the vehicle into reverse. The petitioner described the fault as detachment of the actuator inside the manual transmission. This led to a failure of the actuator to make contact with the reversing light switch which is threaded into the transmission from the outside.

4. Office of Defects Investigation Analysis

The reversing lights provide a warning to other drivers and pedestrians when the vehicle is reversing. The reversing lights also provide some illumination for the driver when reversing at night. Failure of the reversing lights can cause an increased hazard to the vehicle, its occupants, surrounding vehicles and nearby pedestrians.

As of April 14, 2021, NHTSA has identified only one consumer complaint alleging a failure of the reversing lights in NHTSA's database. This complaint was received from the petitioner. Neither NHTSA nor Porsche have received any allegations of crashes or injuries associated with the failure of the reversing lights to illuminate.

Porsche determined that the reversing lights on the MY 2012-2015 Porsche Carrera vehicles were becoming inoperative due to the failure of the transmission side actuation mechanism. Porsche determined the weld between the shift rod and the stopper plate was below manufacturing specifications in some vehicles due to production weld process variations. Porsche modified production weld specifications to improve the strength and consistency of the weld joint between the shift rod and stopper plate.

In January 2021, Porsche initiated a Service Action (228/20) on MY 2012-2015 Porsche Carrera vehicles with active notification of potentially affected customers to remedy the reversing light failure in the affected vehicles. Warranty coverage on the affected components has been extended to 15 years from the new vehicle delivery date with unlimited mileage. Porsche will replace the transmission in the affected vehicles with a new transmission with the modified weld specifications for the shift rod-stopper plate joint. NHTSA believes there is a high likelihood that many affected vehicles will be remedied with this action.

After thoroughly assessing the material submitted by the petitioner, information already in NHTSA's possession, information submitted by Porsche in response to an Information Request letter and the potential risks to safety implicated by the petitioner's allegation, as well as Service Action (228/20) initiated by Porsche offering extended warranty coverage, NHTSA does not believe that a formal investigation is warranted. After full consideration of appropriate factors, the petition is denied.

Authority: 49 U.S.C. 30162(d); delegations of authority at CFR 1.50 and 501.8.

Joseph Kolly,
Acting, Associate Administrator for Enforcement.

[FR Doc. 2021-16926 Filed 8-6-21; 8:45 am]

BILLING CODE 4910-59-P